NATIONAL AERONAUTICS AND SPACE ADMINISTRATION

[Notice 02-150]

Notice of Prospective Patent License

AGENCY: National Aeronautics and Space Administration.

ACTION: Notice of prospective patent license.

SUMMARY: NASA hereby gives notice that PolyuMac TechnoCore, Inc. of 1060 E. 30 Street, Hialeah, FL 33013, has applied for an exclusive license to practice the inventions described in NASA Case No. LAR-15767-1, entitled “Polyimide Precursor Solid Residuum,” for which a U.S. Patent No. 6,180,746 was issued to the United States of America as represented by the Administrator of the National Aeronautics and Space Administration; NASA Case No. LAR-15977-1, entitled “Aromatic Polyimide Foam,” for which a U.S. Patent No. 6,133,330 was issued to the United States of America as represented by the Administrator of the National Aeronautics and Space Administration; NASA Case No. LAR-15831-1, entitled “Hollow Polyimide Microspheres,” for which a U.S. Patent No. 5,994,418 was issued to the United States of America as represented by the Administrator of the National Aeronautics and Space Administration; NASA Case No. LAR-15831-2, entitled “Hollow Polyimide Microspheres,” for which a U.S. Patent No. 6,235,803 was issued to the United States of America as represented by the Administrator of the National Aeronautics and Space Administration; NASA Case No. LAR-15831-3, entitled “Hollow Polyimide Microspheres,” for which a U.S. Patent No. 6,084,000 was issued to the United States of America as represented by the Administrator of the National Aeronautics and Space Administration; and NASA Case No. LAR-15745-1, entitled “Films, Preimpregnated Tapes and Composites made from Polyimide “Salt-like” Solutions,” for which a U.S. Patent No. 6,222,007 was issued to the United States of America as represented by the Administrator of the National Aeronautics and Space Administration filed and assigned to the United States of America as represented by the Administrator of the National Aeronautics and Space Administration.

Written objections to the prospective grant of a license should be sent to Langley Research Center.

DATE(S): Responses to this notice must be received by January 21, 2003.

FOR FURTHER INFORMATION CONTACT: Robin W. Edwards, Patent Attorney, Langley Research Center, Mail Stop 212, Hampton, VA 23681-2199, telephone (757) 864-3230; fax (757) 864-9190.

Dated: December 30, 2002.
Robert M. Stephens,
Deputy General Counsel.

[FR Doc. 03-194 Filed 1-3-03; 8:45 am]

BILLING CODE 7510-01-P